Proclamation 9949 of October 11, 2019

Columbus Day, 2019

By the President of the United States of America

A Proclamation

On October 12, 1492, after a perilous, two-month journey across the treacherous Atlantic Ocean, Christopher Columbus and his crew aboard the Niña, Pinta, and Santa Maria landed in what is today The Bahamas. This watershed voyage ushered in the Age of Exploration, changing the course of history and setting the foundation for development of our Nation. Today, we commemorate this great explorer, whose courage, skill, and drive for discovery are at the core of the American spirit.

While Columbus sailed from the port of Palos under the Spanish flag, he took pride in the fact that he was a citizen of Genoa, Italy. The celebration of Columbus Day is, therefore, an appropriate opportunity to recognize the more than 16 million Americans who claim Italian heritage and to carry forth the legacy of generations of Italian Americans who helped shape our Nation. The United States greatly values its close bond with Italy, a longstanding friend, ally, and economic partner. Our relationship, built on shared values and a commitment to furthering peace and prosperity, continues to benefit both of our nations.

Columbus's daring voyage to the New World brought two continents together, enabling a global perspective for the first time. The bold legacy of Columbus and his crew spun a thread that weaves through the extensive history of Americans who have pushed the boundaries of exploration. On Columbus Day, we draw inspiration from this intrepid pioneer's spirit of adventure. We also affirm our commitment to continuing our quest to discover and better understand the wonders of our Nation, the world, and beyond.

In commemoration of Christopher Columbus's historic voyage, the Congress, by joint resolution of April 30, 1934, and modified in 1968 (36 U.S.C. 107), as amended, has requested the President proclaim the second Monday of October of each year as “Columbus Day.”

NOW, THEREFORE, I, DONALD J. TRUMP, President of the United States of America, by virtue of the authority vested in me by the Constitution and the laws of the United States, do hereby proclaim October 14, 2019, as Columbus Day. I call upon the people of the United States to observe this day with appropriate ceremonies and activities. I also direct that the flag of the United States be displayed on all public buildings on the appointed day in honor of our diverse history and all who have contributed to shaping this Nation.

IN WITNESS WHEREOF, I have hereunto set my hand this eleventh day of October, in the year of our Lord two thousand nineteen, and of the Independence of the United States of America the two hundred and forty-fourth.

[FR Doc. 2019-22807

Filed 10-16-19; 8:45 am]

Billing code 3295-F0-P